DEPARTMENT OF COMMERCE

National Oceanic and Atmospheric Administration

[I.D. 020504B]

Pacific Fishery Management Council, Public Meetings

AGENCY: National Marine Fisheries Service (NMFS), National Oceanic and Atmospheric Administration (NOAA), Commerce.

ACTION: Notice of public meetings.

SUMMARY: The groundfish subcommittee of the Pacific Fishery Management Council's (Council) Scientific and Statistical Committee (SSC) will meet via telephone conference call to review revised stock assessment information for cabezon and lingcod. The stock assessments are to be used for developing management recommendations for 2005-2006 groundfish fisheries. The work session is open to the public.

DATES: The SSC groundfish subcommittee will review the cabezon assessment from 8 a.m. until 12 p.m. on Wednesday, February 25, 2004. Also on Wednesday, February 25, 2004, the subcommittee will review the lingcod assessment from 1 p.m. until business for the day is completed.

ADDRESSES: Four public listening stations will be established for the public to participate in the telephone conference call. See SUPPLEMENTARY INFORMATION for the locations of the listening stations.

Council address: Pacific Fishery Management Council, 7700 NE Ambassador Place, Suite 200, Portland, OR 97220-1384.

FOR FURTHER INFORMATION CONTACT: Mr. Dan Waldeck, Staff Officer; 503-820-2280.

SUPPLEMENTARY INFORMATION: The listening station locations are:

1. NMFS, Alaska Fisheries Science Center, Room 2143, 7600 Sand Point Way NE, Building 4, Seattle, WA 98115, telephone: 206-526-6548;

2. Pacific Fishery Management Council, 7700 NE Ambassador Place, Suite 200, Portland, OR 97220-1384; telephone: 503-820-2280;

3. NMFS Southwest Fisheries Science Center, Room 219, 110 Schaffer Road, Santa Cruz, CA 95060; telephone: 831-420-3949;

4. NMFS, Southwest Fisheries Science Center, Room C-115, 8604 La Jolla Shores Drive, La Jolla, CA 92037; telephone: 858-546-7052.

At the November 2003 Council meeting, the SSC noted apparent deficiencies in the cabezon and lingcod stock assessments. The stock assessments had been developed to inform management decision making for the 2005-20 fishing years. However, because the SSC could not endorse the cabezon and lingcod stock assessments, the Council deferred full incorporation of these assessments until the SSC could review revised assessments prior to the March 2004 Council meeting. Since the November 2003 Council meeting, Stock Assessment Teams have prepared revised assessments for cabezon and lingcod. This new information will be reviewed and discussed by the groundfish subcommittee during the telephone conference call. Public comment will be accommodated during the conference call. The initial recommendations of the groundfish subcommittee will be finalized by the SSC and presented to the Council at the March 2004 Council meeting in Tacoma, WA (March 7-12, 2004).

Entry to NMFS facilities requires identification with a photograph (such as a student ID, state drivers license, etc.) A security guard will review the identification and issue a Visitor's Badge valid for the date of the meeting.

Although non-emergency issues not contained in this notice may come before the SSC groundfish subcommittee for discussion, those issues may not be the subject of formal action during this meeting. SSC groundfish subcommittee action will be restricted to those issues specifically listed in this notice, and any issues arising after publication of this notice that require emergency action under section 305(c) of the Magnuson-Stevens Fishery Conservation and Management Act, provided the public has been notified of the subcommittee's intent to take final action to address the emergency.

Special Accommodations

The meeting is physically accessible to people with disabilities. Requests for sign language interpretation or other auxiliary aids should be directed to Ms. Carolyn Porter at 503-820-2280 at least 5 days prior to the meeting date.

Dated: February 5, 2004.
Tracey Thompson,
Acting Director, Office of Sustainable Fisheries, National Marine Fisheries Service.

[FR Doc. E4-250 Filed 2-10-04; 8:45 am]

BILLING CODE 3510-22-S